DEPARTMENT OF LABOR

Employment and Training Administration

[TA-W-42,317]

Boise Cascade, Jackson Sawmill, Jackson, AL; Notice of Termination of Investigation

Pursuant to section 221 of the Trade Act of 1974, an investigation was initiated on November 1, 2002, in response to a worker petition dated October 15, 2002, filed by the Paper, Allied-Industrial, Chemical, and Energy Workers International Union, on behalf of workers at Boise Cascade, Jackson Sawmill, Jackson, Alabama.

The petitioner has requested that the petition be withdrawn. Consequently, further investigation in this case would serve no purpose, and the investigation has been terminated.

Signed in Washington, DC, this 7th day of November, 2002.
Richard Church,
Certifying Officer, Division of Trade Adjustment Assistance.

[FR Doc. 02-29642 Filed 11-20-02; 8:45 am]

BILLING CODE 4510-30-P